DEPARTMENT OF COMMERCE

Foreign-Trade Zones Board

[S-104-2023]

Approval of Subzone Status; LL Flooring Services, LLC, Sandston, Virginia

On June 23, 2023, the Executive Secretary of the Foreign-Trade Zones (FTZ) Board docketed an application submitted by the Virginia Port Authority, grantee of FTZ 20, requesting subzone status subject to the existing activation limit of FTZ 20, on behalf of LL Flooring Services, LLC, in Sandston, Virginia.

The application was processed in accordance with the FTZ Act and Regulations, including notice in the Federal Register inviting public comment (88 FR 41884, June 28, 2023). The FTZ staff examiner reviewed the application and determined that it meets the criteria for approval. Pursuant to the authority delegated to the FTZ Board Executive Secretary (15 CFR 400.36(f)), the application to establish Subzone 20G was approved on August 22, 2023, subject to the FTZ Act and the Board's regulations, including section 400.13, and further subject to FTZ 20's 2,000-acre activation limit.

Dated: August 22, 2023.
Elizabeth Whiteman,
Executive Secretary.

[FR Doc. 2023-18388 Filed 8-24-23; 8:45 am]

BILLING CODE 3510-DS-P